DEPARTMENT OF LABOR

Employment and Training Administration

[TA-W-53,890]

Arrow Terminals, Allquipps, PA; Notice of Termination of Investigation

Pursuant to section 221 of the Trade Act of 1974, as amended, an investigation was initiated on December 29, 2004, in response to a petition filed by the United Steelworkers of America on behalf of workers at Arrow Terminals, Allquippa, Pennsylvania.

The petitioner has requested that the petition be withdrawn. Consequently, further investigation in this case would serve no purpose, and the investigation has been terminated.

Signed at Washington, DC, this 12th day of January, 2004.
Richard Church,
Certifying Officer, Division of Trade Adjustment Assistance.

[FR Doc. 04-2613 Filed 2-5-04; 8:45 am]

BILLING CODE 4510-30-P